DEPARTMENT OF HEALTH AND HUMAN SERVICES

Meeting of the National Vaccine Advisory Committee Vaccine Safety Working Group

AGENCY: Department of Health and Human Services, Office of the Secretary, Office of Public Health and Science.

ACTION: Notice of meeting.

SUMMARY: The Department of Health and Human Services (HHS) is hereby giving notice that the National Vaccine Advisory Committee (NVAC) Vaccine Safety Working Group will hold a meeting. The meeting is open to the public. Pre-registration is required for both public attendance and comment. The event will be webcast live and audio conferencing will be available.

DATES: The meeting will be held on March 16, 2009, from 9 a.m. to 5 p.m.

ADDRESSES: Department of Health and Human Services; Hubert H. Humphrey Building, Room 800; 200 Independence Avenue, SW., Washington, DC 20201.

FOR FURTHER INFORMATION CONTACT: Ms. Kirsten Vannice, National Vaccine Program Office, Department of Health and Human Services, Room 443-H, Hubert H. Humphrey Building, 200 Independence Avenue, SW., Washington, DC 20201. Phone: (202) 690-5566; Fax: (202) 260-1165; e-mail: kirsten.vannice@hhs.gov.

SUPPLEMENTARY INFORMATION: Pursuant to Section 2101 of the Public Health Service Act (42 U.S.C. Section 300aa-1), the Secretary of Health and Human Services was mandated to establish the National Vaccine Program to achieve optimal prevention of human infectious diseases through immunization and to achieve optimal prevention against adverse reactions to vaccines. The National Vaccine Advisory Committee was established to provide advice and make recommendations to the Director of the National Vaccine Program, on matters related to the Program's responsibilities. The Assistant Secretary for Health serves as Director of the National Vaccine Program.

The NVAC Vaccine Safety Working Group was initially established to (1) undertake and coordinate a scientific review of the draft Centers for Disease Control and Prevention (CDC) Immunization Safety Office (ISO) Scientific Agenda, and (2) review the current vaccine safety system.

On March 16, 2009, the NVAC Vaccine Safety Working Group will meet to hear comments from stakeholders on the ISO Scientific Agenda. Stakeholder participants will be asked to comment broadly on two areas: (1) The content of the draft ISO research agenda and (2) approaches for developing priorities for the draft ISO research agenda. Organizations and individuals with a strong interest in vaccine safety are encouraged to attend. Additional guidance and materials will be provided in advance to registered participants. The information collected during this meeting will inform the Working Group on issues and concerns that should be taken into consideration in developing recommendations to be made to NVAC on the ISO scientific agenda.

Public attendance at the meeting is limited to space available and interested individuals are encouraged to register early to secure a space. Individuals who plan to attend and need special assistance, such as sign language interpretation or other reasonable accommodations, should notify the contact person above at least one week prior to the meeting. Members of the public will have the opportunity to provide comments at the meeting. Public comment will be limited to five minutes per speaker. Pre-registration is required for both public attendance and comment. Any members of the public who wish to have printed material distributed to NVAC Vaccine Safety Working Group members should submit materials to the Executive Secretary, NVAC, through the contact person listed above prior to close of business March 9, 2009. Audio-conferencing will be available. Call in numbers, a draft agenda, a link to the webcast, and additional materials will be posted on the NVAC Vaccine Safety Working Group Web site (http://www.hhs.gov/nvpo/nvac/vaccinesafety.html) prior to the meeting.

Dated: February 19, 2009.
Raymond A. Strikas,
Medical Officer, National Vaccine Program Office, U.S. Department of Health and Human Services.

[FR Doc. E9-3977 Filed 2-24-09; 8:45 am]

BILLING CODE 4150-44-P